DEPARTMENT OF TRANSPORTATION

Federal Aviation Administration

Research, Engineering and Development Advisory Committee

Pursuant to section 10(A)(2) of the Federal Advisory Committee Act (Pub. L. 92-463; 5 U.S.C. App. 2), notice is hereby given of a meeting of the FAA Research, Engineering and Development (R, E&D) Advisory Committee.

AGENCY: Federal Aviation Administration.

ACTION: Notice of Meeting.

NAME: Research, Engineering & Development Advisory Committee.

TIME AND DATE: September 26, 2012—9 a.m. to 4 p.m.

PLACE: JMA Solutions, 600 Maryland Avenue SW., Suite 400E, Washington, DC 20024.

PURPOSE: The meeting agenda will include receiving from the Committee guidance for FAA's research and development investments in the areas of air traffic services, airports, aircraft safety, human factors and environment and energy. Attendance is open to the interested public but seating is limited. Persons wishing to attend the meeting or obtain information should contact Gloria Dunderman at (202) 267-8937 of gloria.dunderman@faa.gov. Members of the public may present a written statement to the Committee at any time.

Issued in Washington, DC, on August 27, 2012.
Catherine A. Bigelow,
Manager, Research and Development Management Division.

[FR Doc. 2012-21546 Filed 9-4-12; 8:45 am]

BILLING CODE 4910-13-M